DEPARTMENT OF THE INTERIOR

Bureau of Land Management

[LLIDT000000.L11200000.DD0000.241A.00]

Notice of Public Meetings, Twin Falls District Resource Advisory Council, Idaho

AGENCY: Bureau of Land Management, Interior.

ACTION: Notice of Public Meetings.

SUMMARY: In accordance with the Federal Land Policy and Management Act (FLPMA), the Federal Advisory Committee Act of 1972 (FACA) and the Federal Lands Recreation Enhancement Act of 2004 (FLREA), the U.S. Department of the Interior Bureau of Land Management (BLM) Twin Falls District Resource Advisory Council (RAC) and subcommittees will meet as indicated below.

DATES: On September 9, 2010, the Twin Falls District RAC subcommittee members will meet at the Sawtooth Best Western Inn, 2653 S. Lincoln Ave., Jerome, Idaho from 10 a.m. to 3:30 p.m. A public comment period will take place from 10:15 a.m.-10:45 a.m.

On September 16, 2010, the Twin Falls District RAC members will meet at the Sawtooth Best Western Inn, in Jerome, Idaho. The meeting will begin at 9 a.m. and end no later than 5 p.m. The public comment period for the full RAC meeting will take place 9:15 a.m. to 9:45 a.m. on September 16.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the BLM, on a variety of planning and management issues associated with public land management in Idaho. During the September 9th meeting, RAC subcommittee members will discuss the West Camas Forest Restoration project and other projects as a follow up to the July tour and meeting. During the September 16th meeting, RAC members will discuss the subcommittee reports and the current status of BLM's strategy for wild horse and burro management. Additional topics may be added and will be included in local media announcements. More information is available at www.blm.gov/id/st/en/res/resource_advisory.3.html. RAC meetings are open to the public.

Dated: August 4, 2010.
Bill Baker,
District Manager.

[FR Doc. 2010-19770 Filed 8-10-10; 8:45 am]

BILLING CODE 4310-GG-P